DEPARTMENT OF AGRICULTURE

Agricultural Marketing Service

[Docket No. AMS-FTPP-22-0077]

Information Collection Renewal for Country of Origin Labeling

AGENCY: Agricultural Marketing Service, USDA.

ACTION: Notice and request for comments.

SUMMARY: In accordance with the Paperwork Reduction Act of 1995, this notice announces the Agricultural Marketing Service's (AMS) intention to request approval, from the Office of Management and Budget, for an extension of and revision to the currently approved information collection for Country of Origin Labeling.

DATES: Comments on this notice must be received by January 17, 2023.

ADDRESSES: Interested persons are invited to submit comments concerning this notice by using the electronic process available at https://www.regulations.gov. Comments may also be filed with the Docket Clerk, 1400 Independence Ave. SW, Room 2069-South, Washington, DC 20250; Fax: (202) 260-8369. All comments should reference the docket number AMS-FTPP-22-0077, the date, and the page number of this issue of the Federal Register. All comments submitted in response to this notice will be posted without change, including any personal information provided, at https://www.regulations.gov and will be included in the record and made available to the public.

FOR FURTHER INFORMATION CONTACT: Kenneth Becker, Branch Chief of Research and Rulemaking, Food Disclosure and Labeling Division, Agricultural Marketing Service, U.S. Department of Agriculture; Telephone (202) 720-4486, Email: kenneth.becker@usda.gov.

SUPPLEMENTARY INFORMATION:

Title: Information Collection Renewal for Country of Origin Labeling.

OMB Number: 0581-0250.

Expiration Date of Approval: March 31, 2023.

Type of Request: Extension and revision of a currently approved information collection.

Abstract: The 2002 (Pub. L. 107-171) and 2008 (Pub. L. 110-234), Farm Bills and the Consolidated Appropriations Act, 2016 (Pub. L. 114-113) amended the Agricultural Marketing Act of 1946 to require retailers to notify their customers of the country of origin of muscle cuts and ground lamb, chicken, and goat meat; wild and farm-raised fish and shellfish; perishable agricultural commodities; peanuts, pecans, and macadamia nuts; and ginseng. An interim final rule for mandatory Country of Origin Labeling (COOL) for fish and shellfish became effective on April 4, 2005. An interim final rule for the remaining covered commodities became effective on September 30, 2008. On January 15, 2009, a final rule was published for all covered commodities which became effective March 16, 2009. On May 23, 2013, a final rule was published to amend the definition of retailer and labeling requirements for meat muscle cut commodities derived from animals slaughtered in the United States. With the Consolidated Appropriations Act, 2016, Congress amended the Agricultural Marketing Act of 1946 to remove muscle cut beef and pork, and ground beef and pork commodities from COOL requirements. On March 2, 2016, AMS issued a final rule to remove mandatory COOL requirements for beef, pork, ground beef and ground pork to conform with the statute. Mandatory COOL requirements remain in full force and effect for all remaining covered commodities. Enforcement activities have been conducted since 2006 utilizing cooperative agreements established with State agencies as authorized by the statute. The previously approved information collection request expires on March 31, 2023.

Estimate of Burden: Public reporting burden for recordkeeping storage and maintenance is estimated to average 56.9 hours per response.

Recordkeepers: Importers, food manufacturers, and food retailers.

Estimated Number of Recordkeepers: 349,598.

Estimated Total Annual Responses: 349,598.

Estimated Number of Responses per Recordkeeper: 1.

Estimated Total Annual Burden on Respondents: 19,879,947.

Comments are invited on: (1) whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be submitted using the electronic process available at https://www.regulations.gov. All comments received will be available for public inspection during regular business hours at the same address.

All responses to this notice will be summarized and included in the request for OMB approval. All comments will become a matter of public record.

Erin Morris,
Associate Administrator, Agricultural Marketing Service.

[FR Doc. 2022-25079 Filed 11-17-22; 8:45 am]

BILLING CODE P